DEPARTMENT OF AGRICULTURE

Submission for OMB Review; Comment Request; Correction

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding this information collection received by November 3, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Research Service

Title: Peer Review Related Forms for the Office of Scientific Quality Review.

Action: Notice: Correction.

OMB Control Number: 0518-0028.

Summary of Collection: The Office of Scientific Quality Review (OSQR) published a document in the Federal Register on September 21, 2022, Volume 87, Number 182, page 57680, concerning a request for comment on the information collection “Peer Review Related Forms for the Office of Scientific Quality Review” OMB control number 0518-0028. The number of respondents and burden hours were incorrect. The number of respondents should have been 401 not 230 and the burden hours 2,833 not 2,460.

Number of Respondents: 401.

Frequency of Responses: Reporting: Quarterly; Weekly; Annually.

Total Burden Hours: 2,833.

Ruth Brown,
Departmental Information Collection Clearance Officer.

[FR Doc. 2022-21498 Filed 10-3-22; 8:45 am]

BILLING CODE 3410-03-P